DEPARTMENT OF STATE

Delegation of Authority 250-1: Further Assignment of Functions Under the Bipartisan Congressional Trade Priorities and Accountability Act of 2015 (the “Act”) to Other Departments and Agencies of the Executive Branch

AGENCY: Department of State.

ACTION: Further assignment of functions.

SUMMARY: The Act specifically granted the President certain authorities and assigned the President certain functions related to agreements covered by the Act's provisions. In Executive Order No. 13701, the President assigned certain of these functions to the Secretary of State and provided guidance for performing those functions, including the further assignment of functions to officers of any other department or agency within the Executive Branch. This notice informs the public of the Secretary of State's further assignment of certain functions. This notice does not create any right or benefit, substantive or procedural, enforceable at law or equity by a party against the United States, its departments, agencies, instrumentalities or entities, its officers or employees, or any other person.

DATES: These actions were effective on the signature date.

FOR FURTHER INFORMATION CONTACT: Tiffany Prather, PratherTA@state.gov; Tel: (202) 647-4548.

SUPPLEMENTARY INFORMATION:

Further Assignment of Functions

Pursuant to section 1(c)(i) of Executive Order No. 13701, the Secretary of State hereby, as set forth below, further assigns certain functions of the Secretary of State under the Order. Departments and agencies shall carry out those functions in a manner that is supportive of agreements subject to the Act.

The functions of the President under section 102(c)(2) of the Act with respect to establishing consultative mechanisms assigned to the Secretary of State are further assigned to the United States Trade Representative, and shall be carried out jointly by the Secretary of State and the United States Trade Representative. Such consultative mechanisms are those established through trade agreements subject to the Act. This further assignment is without prejudice to the Secretary of State's responsibility for coordinating the operation of such mechanisms and obtaining the advice and assistance of any other agency as necessary and appropriate.

Dated: February 11, 2016.
John Kerry,
Secretary of State.

[FR Doc. 2016-03376 Filed 2-17-16; 8:45 am]

BILLING CODE 4710-09-P